DEPARTMENT OF ENERGY

Federal Energy Regulatory Commission

Notice of Effectiveness of Exempt Wholesale Generator Status

| Docket Nos.
Bishop Hill Interconnection LLC | EG12-24-000.
Tenaska Washington Partners, L.P | EG12-25-000.
Pattern Santa Isabel LLC | EG12-26-000.
Mariposa Energy, LLC | EG12-27-000.
Blue Summit Wind, LLC | EG12-28-000.
CPV Sentinel, LLC | EG12-29-000.
Spring Valley Wind LLC | EG12-30-000.
Dynegy Midwest Generation, LLC | EG00-235-000.

Take notice that during the month of March 2012, the status of the above-captioned entities as Exempt Wholesale Generators became effective by operation of the Commission's regulations. 18 CFR 366.7(a).

Dated: April 4, 2012.
Kimberly D. Bose,
Secretary.

[FR Doc. 2012-8650 Filed 4-10-12; 8:45 am]

BILLING CODE 6717-01-P